DEPARTMENT OF AGRICULTURE

Food and Nutrition Service

Agency Information Collection Activities: Proposed Collection; Comment Request Form FNS-798 and FNS-798A, WIC Financial Management and Participation Report With Addendum

AGENCY: Food and Nutrition Service, USDA.

ACTION: Notice.

SUMMARY: In accordance with the Paperwork Reduction Act of 1995, this notice invites the general public and other public agencies to comment on proposed information collections.

DATES: Written comments on this notice must be received on or before June 23, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments may be sent to: Patricia N. Daniels, Director, Supplemental Food Programs Division, Food and Nutrition Service, U.S. Department of Agriculture, 3101 Park Center Drive, Room 520, Alexandria, VA 22302. Comments may also be submitted via fax to the attention of Joan Carroll at 703-305-2196 or via e-mail to Joan.Carroll@fns.usda.gov.

All written comments will be open for public inspection at the office of the Food and Nutrition Service during regular business hours (8:30 a.m. to 5 p.m., Monday through Friday) at 3101 Park Center Drive, Alexandria, Virginia 22302, Room 518.

All responses to this notice will be summarized and included in the request for OMB approval, and will become a matter of public record.

FOR FURTHER INFORMATION CONTACT: Requests for additional information or copies of the information collection form and instructions should be directed to: Patricia N. Daniels, (703) 305-2749.

SUPPLEMENTARY INFORMATION: Title: WIC Financial Management and Participation Report with Addendum.

OMB Number: 0584-0045.

Form Number: FNS 798 and FNS 798A.

Expiration Date: 07-31-2008.

Type of Request: Revision of a Currently Approved Collection Form.

Abstract: Section 17(f)(4) of the Child Nutrition Act of 1966 (42 U.S.C. 1786(f)(4)) provides that “State agencies shall submit monthly financial reports and participation data to the Secretary” (See also 7 CFR 246.25(b)(1)). The WIC Financial Management and Participation Report with Addendum (FNS-798 and FNS-798A) are the forms State agencies complete to comply with this requirement. FNS and State agencies use the reported information for program monitoring, funds management, budget projections, monitoring caseload, policy development, and responding to requests from Congress and interested parties.

In addition, nonentitlement programs, such as the WIC Program, are required to conduct an annual closeout and reconciliation of grants. Departmental regulations at 7 CFR 3016.23(b) require that “[a] grantee must liquidate all obligations incurred under the award not later than 90 days after the end of the funding period (or as specified in a program regulation) to coincide with the submission of the annual Financial Status Report (SF-269).” WIC Program regulations at 7 CFR 246.17(b)(2) instruct State agencies to “submit to FNS, within 120 days after the end of the fiscal year, final fiscal year closeout reports.” The final WIC Financial Management and Participation Report (FNS-798) submitted for the year with its addendum (FNS-798A) are used as a substitute for the SF-269, because they maintain the integrity of WIC's two grant components (food and nutrition services and administration (NSA)) as well as the four NSA grant components (program management, client services, nutrition education, and breastfeeding promotion and support).

The proposed revision of the WIC Financial Management and Participation Report (FNS-798) and its addendum (FNS-798A) will: (1) identify breastfeeding women and infant participants as either fully breastfeeding or partially breastfeeding, (2) add columns corresponding to the 12 months of the fiscal year for the NSA cost section of the report, (3) delete the requirement to separately report funds spent forward to the following year attributable to vendor and participant collections, and (4) delete the requirement to report indirect cost rates and bases and the types of indirect cost rates. The revision to the participation categories is proposed so participation will correspond with revisions in participant food packages (See Special Supplemental Nutrition Program for Women, Infants and Children (WIC): Revisions in the WIC Food Packages; Interim Rule, December 6, 2007). The proposed columns in the NSA cost section will: (1) Provide a computer-generated cumulative total of NSA costs rather than having the State agency compute and report this amount, (2) make the NSA cost section consistent with the food cost and participation sections which already have columns for the 12 months, and (3) make it easier for State agencies to correct reporting errors made in prior periods. State agencies do not need to separately report the amount of funds spent forward attributable to vendor, participant and local agency collections as this amount is evident based on other data elements. State agencies will continue to report the total amount charged to the grant for indirect costs. However, it is not necessary for them to report the factors used to calculate this amount. Instead, indirect cost calculations should be validated during an audit or financial management technical assistance review. Due to the increase in the number of WIC State agencies reporting and a decrease in the number of responses per respondent, this revision is also an adjustment in the number of respondents from 89 to 90 and the number of responses per respondent from 17 to 15.

Estimate of Burden: Public reporting burden for this collection of information is estimated to average 3.35 hours per response, including the time for reviewing instructions, searching existing data sources, gathering and maintaining the data needed, and completing and reviewing the collection of information. The total annual burden on respondents was previously 4,713 hours. This revision decreases the total annual burden by 190 hours.

Respondents: Directors or Administrators of WIC State agencies.

Estimated Number of Respondents: 90 respondents.

Estimated Number of Responses per Respondent: 15.

Estimated Total Annual Burden on Respondents: 4,523 hours.

Dated: April 16, 2008.
Roberto Salazar,
Administrator, Food and Nutrition Service.

[FR Doc. E8-8792 Filed 4-22-08; 8:45 am]

BILLING CODE 3410-30-P